DEPARTMENT OF THE INTERIOR

Fish and Wildlife Service

50 CFR Part 17

[Docket No. FWS-R5-ES-2015-0015; 4500030113]

RIN 1018-BA85

Endangered and Threatened Wildlife and Plants; Endangered Species Status for the Big Sandy Crayfish and the Guyandotte River Crayfish

AGENCY: Fish and Wildlife Service, Interior.

ACTION: Proposed rule; reopening of comment period.

SUMMARY: We, the U.S. Fish and Wildlife Service (Service), announce the reopening of the public comment period on our April 7, 2015, proposed rule to list the Big Sandy crayfish (Cambarus callainus) and the Guyandotte River crayfish (C. veteranus) as endangered species under the Endangered Species Act of 1973, as amended. We are taking this action to make the results of the 2015 summer surveys available for public review and comment. The surveys provide updated information on the two species' distribution and abundance. Comments previously submitted on the April 7, 2015, proposed rule need not be resubmitted, as they will be fully considered in preparation of the final listing determination.

DATES: We will consider comments received or postmarked on or before January 14, 2016. Comments submitted electronically using the Federal eRulemaking Portal (see ADDRESSES section, below) must be received by 11:59 p.m. Eastern Time on the closing date.

ADDRESSES: Document availability: You may obtain copies of the April 7, 2015, proposed rule and supporting material on the Internet at http://www.regulations.gov at Docket No. FWS-R5-ES-2015-0015. Documents may also be obtained by mail from the Northeast Regional Office (see FOR FURTHER INFORMATION CONTACT).

Written comments: You may submit written comments by one of the following methods:

(1) Electronically: Go to the Federal eRulemaking Portal: http://www.regulations.gov. In the Search box, enter FWS-R5-ES-2015-0015, which is the docket number for this rulemaking. Then, in the Search panel on the left side of the screen, under the Document Type heading, click on the Proposed Rules link to locate the document. You may submit a comment by clicking on “Comment Now!”

(2) By hard copy: Submit by U.S. mail or hand delivery to: Public Comments Processing, Attn: FWS-R5-ES-2015-0015, U.S. Fish and Wildlife Service, MS: BPHC, 5275 Leesburg Pike, Falls Church, VA 22041-3803.

We request that you send comments only by the methods described above. We will post all comments on http://www.regulations.gov. This generally means that we will post any personal information you provide us (see the Public Comments section, below, for more information).

FOR FURTHER INFORMATION CONTACT: Martin Miller, Chief, Endangered Species, U.S. Fish and Wildlife Service, Northeast Regional Office, 300 Westgate Center Drive, Hadley, MA 01035; telephone 413-253-8615; or facsimile 413-253-8482. Persons who use a telecommunications device for the deaf (TDD) may call the Federal Information Relay Service (FIRS) at 800-877-8339.

SUPPLEMENTARY INFORMATION:

Background

In our April 7, 2015, proposed rule (80 FR 18710), we proposed to list the Big Sandy crayfish and the Guyandotte River crayfish as endangered species primarily due to the threats of land-disturbing activities that increase erosion and sedimentation, which degrade the stream habitat required by both species, and the effects of small population size. During the 60-day public comment period on the proposed rule, we received requests to extend the comment period beyond the June 8, 2015, closing date. For rulemaking and financial efficiency, we declined to extend the comment period at that time because we were already planning to reopen the comment period in the fall of 2015 to make available the results of rangewide surveys that would be conducted for each species in the summer of 2015. The final reports for the 2015 summer surveys are now available on the Internet at http://www.regulations.gov at Docket No. FWS-R5-ES-2015-0015 and at http://www.fws.gov/northeast/crayfish/. These survey results and any substantive public comments about the survey results will inform our final listing decision, which we anticipate publishing on or before April 7, 2016.

For more information on previous Federal actions concerning the Big Sandy crayfish and the Guyandotte River crayfish, or information regarding the species' biology, status, distribution, and habitat, refer to the proposed rule published in the Federal Register on April 7, 2015 (80 FR 18710), which is available online at http://www.regulations.gov at Docket No. FWS-R5-ES-2015-0015 or by mail from the Northeast Regional Office (see FOR FURTHER INFORMATION CONTACT).

Public Comments

We will accept written comments and information during this reopened comment period on our proposal to list the Big Sandy crayfish and Guyandotte River crayfish that published in the Federal Register on April 7, 2015 (80 FR 18710). We will consider information and recommendations from all interested parties. We intend that any final action resulting from the proposal be as accurate as possible and based on the best available scientific and commercial data.

If you submitted comments or information on the proposed rule (80 FR 18710) during the initial comment period from April 7, 2015, to June 8, 2015, please do not resubmit them. We have incorporated them into the public record as part of the previous comment period, and we will consider them in the preparation of our final determination.

If you submit a comment via http://www.regulations.gov, your entire comment—including any personal identifying information—will be posted on the Web site. We will post all hardcopy comments on http://www.regulations.gov as well. If you submit a hardcopy comment that includes personal identifying information, you may request at the top of your document that we withhold this information from public review. However, we cannot guarantee that we will be able to do so.

Comments and materials we receive, as well as supporting documentation we used in preparing the proposed listing, will be available for public inspection on http://www.regulations.gov at Docket No. FWS-R5-ES-2015-0015, or by appointment, during normal business hours at the U.S. Fish and Wildlife Service, Northeast Regional Office (see FOR FURTHER INFORMATION CONTACT).

Authors

The primary authors of this notice are staff members in the Endangered Species Program, Northeast Regional Office, U.S. Fish and Wildlife Service.

Authority

The authority for this action is the Endangered Species Act of 1973, as amended (16 U.S.C. 1531 et seq.).

Dated: November 30, 2015.
Stephen Guertin,
Acting Director, U.S. Fish and Wildlife Service.

[FR Doc. 2015-31369 Filed 12-14-15; 8:45 am]

BILLING CODE 4333-15-P